DEPARTMENT OF VETERANS AFFAIRS

Enhanced-Use Lease (EUL) of U.S. Department of Veterans Affairs (VA) Real Property for the Development of a Permanent Supportive Housing Facility at the Lexington VA Health Care System, Franklin R. Sousley Campus in Lexington, Kentucky

AGENCY: U.S. Department of Veterans Affairs.

ACTION: Notice of intent.

SUMMARY: The Secretary of VA intends to enter into an EUL for the purpose of outleasing Buildings #5, 6, 7, 8 and construct six new townhomes on approximately 10.52 acres of underutilized land on the Lexington VA Health Care System, Franklin R. Sousley campus, consisting of approximately 50 housing units to provide affordable housing for veterans. The EUL lessee, Leestown VA Housing, LLLP, will finance, design, develop, rehabilitate, construct, manage, maintain, and operate housing for eligible homeless veterans, or veterans at-risk of homelessness, and their families, as well as provide services that guide resident veterans toward attaining long-term self-sufficiency.

FOR FURTHER INFORMATION CONTACT: Edward L. Bradley III, Office of Asset Enterprise Management (044), Department of Veterans Affairs, 810 Vermont Avenue NW, Washington, DC 20420, (202) 461-7778 (this is not a toll free number).

SUPPLEMENTARY INFORMATION: Title 38 U.S.C. 8161, et seq., authorizes the Secretary to enter into an EUL for the provision of supportive housing, if the lease would not be inconsistent with and will not adversely affect the mission of the Department. This project comports with those parameters.

Signing Authority

The Secretary of Veterans Affairs, or designee, approved this document and authorized the undersigned to sign and submit the document to the Office of the Federal Register for publication electronically as an official document of the Department of Veterans Affairs. Robert L. Wilkie, Secretary, Department of Veterans Affairs, approved this document for publication on October 12, 2018.

Approved: October 12, 2018.
Jeffrey M. Martin,
Assistant Director, Office of Regulation Policy & Management, Office of the Secretary, Department of Veterans Affairs.

[FR Doc. 2018-22941 Filed 10-19-18; 8:45 am]

BILLING CODE 8320-01-P